FEDERAL COMMUNICATIONS COMMISSION

47 CFR Part 73

[DA 03-3748, MM Docket No. 02-12; RM-10356, RM-10551, RM-10553, and RM-10554]

Radio Broadcasting Services; Ash Fork, AZ, Beaver, UT, Cedar City, UT, Dolan Springs, AZ, Fredonia, AZ, Moapa Valley, NV, Peach Springs, AZ and Tusayan, AZ

AGENCY: Federal Communications Commission.

ACTION: Final rule.

SUMMARY: In response to a Notice of Proposed Rule Making, 67 FR 5961 (February 8, 2002), this Report and Order allots Channel 267A to Ash Fork, Arizona, and allots Channel 285C3 to Peach Springs, Arizona as first local aural transmission services for those communities; allots Channel 278C1 to Fredonia, Arizona, as a second local service to Fredonia; reallots Channel 224C, Station KRRN(FM), from Dolan Springs, Arizona, to Moapa Valley, Nevada, as a second local service to Moapa Valley; substitutes Channel 221C for Channel 223C at Station KXFF(FM), Cedar City, Utah; substitutes Channel 222A for Channel 221A at Station KSGC(FM), Tusayan, Arizona; and allots Channel 246A to Beaver, Utah, as that community's first local aural transmission service. The coordinates for Channel 267A at Ash Fork, Arizona, are 35-16-13 NL and 112-32-31 WL, with a site restriction of 7.4 kilometers (4.6 miles) northwest of Ash Fork. The coordinates for Channel 285C3 at Peach Springs, Arizona, are 35-31-39 NL and 113-19-49 WL, with a site restriction of 8.6 kilometers (5.3 miles) east of Peach Springs. The coordinates for Channel 278C1 at Fredonia, Arizona, are 36-53-00 NL and 112-11-40 WL, with a site restriction of 29.5 kilometers (18.3 miles) east of Fredonia. The coordinates for Channel 224C, at Station KRRN(FM), Moapa Valley, Nevada, are 36-35-06 NL and 114-36-01 WL, with a site restriction of 11.7 kilometers (7.3 miles) west of Moapa Valley. The coordinates for Channel 221C at Station KXFF(FM), Cedar City, Utah are 37-38-41 NL and 113-22-28 WL, with a site restriction of 27.8 kilometers (17.3 miles) west of Cedar City. The coordinates for Channel 222A at Station KSGC(FM), Tusayan, Arizona, are 35-58-14 NL and 112-07-53 WL, with a site restriction of 0.6 kilometers (0.4 miles) southwest of Tusayan. The coordinates for Channel 246A at Beaver, Utah, are 38-16-37 NL and 112-38-25 WL.

DATES: Effective January 12, 2004.

FOR FURTHER INFORMATION CONTACT: R. Barthen Gorman, Media Bureau, (202) 418-2180.

SUPPLEMENTARY INFORMATION: This is a synopsis of the Commission's Report and Order, MM Docket No. 02-12 adopted November 21, 2003, and released November 26, 2003. The full text of this Commission decision is available for inspection and copying during normal business hours in the FCC's Reference Information Center at Portals II, 445 12th Street, SW, Room CY-A257, Washington, DC, 20554. The document may also be purchased from the Commission's duplicating contractor, Qualex International, Portals II, 445 12th Street, SW, Room CY-B402, Washington, DC, 20554, telephone 202 863-2893. facsimile 202 863-2898, or via e-mail qualexint@aol.com.

List of Subjects in 47 CFR Part 73

Radio, Radio broadcasting.

Part 73 of Title 47 of the Code of Federal Regulations is amended as follows:

PART 73—RADIO BROADCAST SERVICES

1.The authority citation for Part 73 reads as follows:

Authority: 47 U.S.C. 154, 303, 334 and 336.

§ 73.202 [Amended]

2. Section 73.202(b), the Table of FM Allotments under Arizona, is amended by adding Ash Fork, Channel 267A, by removing Channel 224C at Dolan Springs, by adding Fredonia, Channel 278C1, by adding Peach Springs, Channel 285C3, by removing Channel 221A and by adding Channel 222A at Tusayan.

3. Section 73.202(b), the Table of FM Allotments under Nevada, is amended by adding Channel 224C, Moapa Valley.

4. Section 73.202(b), the Table of FM Allotments under Utah, is amended by adding Beaver, Channel 246A, by removing Channel 223C, and by adding Channel 221C at Cedar City.

Federal Communications Commission.
John A. Karousos,
Assistant Chief, Audio Division, Media Bureau.

[FR Doc. 03-30767 Filed 12-11-03; 8:45 am]

BILLING CODE 6712-01-P